DEPARTMENT OF ENERGY

Federal Energy Regulatory Commission

Combined Notice of Filings # 2

July 11, 2006.

Take notice that the Commission received the following electric corporate filings:

Docket Numbers: EC06-138-000.

Applicants: Broad River OL-1, LLC; Broad River OL-2, LLC; Broad River OL-3, LLC; Broad River OL-4, LLC.

Description: Broad River OL-1, LLC, et al., submits a joint application for approval under Section 203 of the Federal Power Act and request for expedited action.

Filed Date: 7/7/2006.

Accession Number: 20060711-0014.

Comment Date: 5 p.m. Eastern Time on Friday, July 28, 2006.

Take notice that the Commission received the following electric rate filings:

Docket Numbers: ER03-534-002.

Applicants: Ingenco Wholesale Power, L.L.C.

Description: Ingenco Wholesale Power, LLLC amendment to triennial updated market power analysis filed April 27, 2006.

Filed Date: 7/7/2006.

Accession Number: 20060707-5013.

Comment Date: 5 p.m. Eastern Time on Friday, July 28, 2006.

Docket Numbers: ER06-200-006; ER03-951-009; ER03-416-010; ER04-94-006; ER03-296-009; ER05-534-007; ER05-365-007; ER01-3121-008; ER02-418-007; ER05-332-007; ER06-1-005; ER02-417-007; ER05-1146-007; ER05-481-007; ER03-1326-005; ER05-1262-004.

Applicants: Big Horn Wind Project LLC; PPM Energy, Inc; Moraine Wind LLC; Klondike Wind Power Partners, LLC; Mountain View Power Partners; Flying Cloud Power Partners, LLC; Eastern Desert Power LLC; Elk River Windfarm LLC; Klamath Energy LLC; Klamath Generation LLC; Klondike Wind Power II LLC; Leaning Juniper Wind Power LLC; Phoenix Wind Power LLC; Shiloh I Wind Project, LLC; Trimont Wind I LLC; Colorado Green Holdings LLC.

Description: PPM Energy, Inc et al. submits Notice of Change in Status, to advise FERC that PPM Energy has entered into a Scheduling and Asset Optimization Services Agreement with MMC Energy North America, LLC et al.

Filed Date: 7/7/2006.

Accession Number: 20060711-0102.

Comment Date: 5 p.m. Eastern Time on Friday, July 28, 2006.

Docket Numbers: ER06-666-001.

Applicants: Midwest Independent Transmission System Operator, Inc.

Description: Midwest Independent Transmission System Operator, Inc submits revisions to Section 39.3.4c.ii to their OAT&EM Tariff, FERC Electric Tariff, Third Revised Volume 1 pursuant to FERC's 4/20/06 Order.

Filed Date: 5/22/2006.

Accession Number: 20060530-0043.

Comment Date: 5 p.m. Eastern Time on Friday, July 21, 2006.

Docket Numbers: ER06-849-001.

Applicants: Midwest Independent Transmission System Operator, Inc.

Description: Midwest Independent Transmission System Operator Inc submits revisions to Attachment L of its OAT&EM Tariff, 3rd Rev Vol 1, pursuant to Commission's 6/6/06 Order and 7/7/06 submits a correction to this filing.

Filed Date: 7/6/2006 & 7/7/2006.

Accession Number: 20060711-0002.

Comment Date: 5 p.m. Eastern Time on Thursday, July 27, 2006.

Docket Numbers: ER06-1127-001; EL06-67-000.

Applicants: PJM Interconnection, LLC.

Description: PJM Interconnection, LLC submits its response to FERC's 6/22/06 letter order for additional explanation.

Filed Date: 7/10/2006.

Accession Number: 20060711-0010.

Comment Date: 5 p.m. Eastern Time on Monday, July 17, 2006.

Docket Numbers: ER06-1143-001.

Applicants: MATEP, LLC.

Description: MATEP, LLC submits an amendment to its 6/16/06 application for market-based rate authority and the market-based power sales tariff, FERC Electric Tariff, Original Volume 1.

Filed Date: 7/10/2006.

Accession Number: 20060711-0009.

Comment Date: 5 p.m. Eastern Time on Monday, July 31, 2006.

Docket Numbers: ER06-1234-000.

Applicants: Southern Company Services, Inc.; Southern Companies.

Description: Southern Company Services as agent for Alabama Power Co et al. submits an unexecuted interconnection agreement with Longleaf Energy Associates LLC.

Filed Date: 7/7/2006.

Accession Number: 20060711-0005.

Comment Date: 5 p.m. Eastern Time on Friday, July 28, 2006.

Docket Numbers: ER06-1235-000.

Applicants: Pacific Gas & Electric Company.

Description: Pacific Gas and Electric Co submits an Agreement to Implement the Scheduling Coordinator Transition with the City and County of San Francisco, CA.

Filed Date: 7/7/2006.

Accession Number: 20060711-0004.

Comment Date: 5 p.m. Eastern Time on Friday, July 28, 2006.

Docket Numbers: ER06-1236-000.

Applicants: CMP Androscoggin LLC.

Description: CMP Androscoggin LLC submits its application for authority to sell electric power and related services at market based rates and accept its Electric Tariff, Original Volume 1, effective 9/5/06.

Filed Date: 7/7/2006.

Accession Number: 20060711-0001.

Comment Date: 5 p.m. Eastern Time on Friday, July 28, 2006.

Docket Numbers: ER06-1237-000.

Applicants: Southern California Edison Company.

Description: Southern California Edison Co submits its First Revised Sheet 1 for the Interconnection Facilities Agreement w/the County Sanitation Districts of Los Angeles, Service Agreement 39.

Filed Date: 7/10/2006.

Accession Number: 20060711-0013.

Comment Date: 5 p.m. Eastern Time on Monday, July 31, 2006.

Docket Numbers: ER06-1238-000.

Applicants: San Joaquin Cogen L.L.C.

Description: San Joaquin Cogen, LLC on behalf of San Joaquin Cogen, Ltd submits a notice of cancellation of FERC Electric Tariff, Original Volume 1.

Filed Date: 7/10/2006.

Accession Number: 20060711-0011.

Comment Date: 5 p.m. Eastern Time on Monday, July 31, 2006.

Take notice that the Commission received the following electric securities filings:

Docket Numbers: ES06-54-000.

Applicants: Monongahela Power Company.

Description: Monongahela Power Co submits its application for authorization under Section 204(A) of the FPA to issue up to $300 Million in First Mortgage Bonds and enter into Interest Rate Hedges.

Filed Date: 7/7/2006.

Accession Number: 20060711-0003.

Comment Date: 5 p.m. Eastern Time on Friday, July 28, 2006.

Take notice that the Commission received the following foreign utility company status filings:

Docket Numbers: FC06-15-000.

Applicants: J-Power USA Investment Co., Ltd.

Description: J-Power USA Investment Co., Ltd submits its self-certification of Foreign Utility Company Status.

Filed Date: 7/10/2006.

Accession Number: 20060710-5032.

Comment Date: 5 p.m. Eastern Time on Monday, July 31, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-11243 Filed 7-14-06; 8:45 am]

BILLING CODE 6717-01-P